STATE JUSTICE INSTITUTE

SJI Board of Directors Meeting, Notice

AGENCY: State Justice Institute.

ACTION: Notice of meeting.

SUMMARY: The SJI Board of Directors will be meeting on Monday, December 8, 2014 at 1:00 p.m. The meeting will be held at the Judicial Council of California. The purpose of this meeting is to consider grant applications for the 1st quarter of FY 2015, and other business. All portions of this meeting are open to the public.

ADDRESSES: Judicial Council of California, Executive Office, Executive Office Conference Room, 5th Floor, 455 Golden Gate Ave., San Francisco, California.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2014-27993 Filed 11-25-14; 8:45 am]

BILLING CODE P